DEPARTMENT OF HEALTH AND HUMAN SERVICES

Office of the Secretary

Delegation of Authority

Notice is hereby given that I have delegated jointly to the Administrator, Centers for Medicare & Medicaid Services (CMS), and to the Director, National Institutes of Health (NIH), the authorities vested in the Secretary under Section 1881(c)(7)(B)-(E) [42 U.S.C. 1395rr(c)(7)(B)-(E)] of the Social Security Act (the Act), as amended, to assemble and analyze data reported by network organizations, transplant centers, and other sources on all end-stage renal disease (ESRD) patients.

Limitations

This delegation of authorities under Section 1881(c)(7)(B)-(E) [42 U.S.C. 1395rr(c)(7)(B)-(E)] of the Act shall be shared between CMS and NIH as these authorities relate to their respective programs. CMS and NIH will implement proactive collaborative measures such as ongoing status checks to discuss progress and resolve any potential disputes.

This delegation supersedes any prior delegations under this section, including the delegation dated September 6, 1984 (49 FR 35247).

This delegation of authority may be re-delegated.

This delegation of authority is effective immediately.

I hereby affirm and ratify any actions taken by the Administrator, CMS, and the Director, NIH, or their subordinates, which involved the exercise of authority under Section 1881(c)(7)(B)-(E) [42 U.S.C. 1395rr(c)(7)(B)-(E)] of the Act, as amended, delegated herein prior to the effective date of this delegation of authority.

Authority: 42 U.S.C. 1395.

Alex M. Azar II,
Secretary.

[FR Doc. 2020-17748 Filed 8-12-20; 8:45 am]

BILLING CODE 4150-03-P